NATIONAL ARCHIVES AND RECORDS ADMINISTRATION

36 CFR Part 1234

RIN 3095-AA94

Elimination of Requirement to Rewind Computer Tapes

AGENCY: National Archives and Records Administration (NARA).

ACTION: Proposed rule.

SUMMARY: NARA proposes to revise its regulations to eliminate the requirement that Federal agencies rewind under controlled tension all computer tapes containing unscheduled or permanent records every 3½ years. This change would affect Federal agencies that store unscheduled or permanent records on computer open-reel tapes or tape cartridges.

DATES: Comments must be received on or before April 3, 2000.

ADDRESSES: Send comments to Regulation Comment Desk, NPLN, Room 4100, National Archives and Records Administration, 8601 Adelphi Road, College Park, Maryland, 20740-6001. You may also fax comments to (301) 713-7270.

FOR FURTHER INFORMATION CONTACT: Nancy Allard or Shawn Morton at (301) 713-7360.

SUPPLEMENTARY INFORMATION: This proposed rule eliminates the requirement for Federal agencies to rewind under controlled tension all tapes containing unscheduled or permanent electronic records every 3½ years which is contained in 36 CFR 1234.30(g)(3). This requirement was imposed to address the maintenance and storage of open-reel computer tapes. After tape cartridges became commonplace, computer centers generally did not periodically rewind cartridges. A study conducted by NIST in 1991 concluded that periodic retensioning of computer tape cartridges is unnecessary. In addition, recent electrical engineering studies have questioned whether open-reel tapes should be periodically rewound. Another 1991 NIST study found that the process of rewinding tapes may actually harm them, and would outweigh the benefits associated with storing tapes rewound under controlled tension.

This proposed rule is not a significant regulatory action for the purposes of Executive Order 12866. As required by the Regulatory Flexibility Act, it is hereby certified that this proposed rule will not have a significant impact on a substantial number of small entities because it applies to Federal agencies.

List of subjects in 36 CFR Part 1234

Archives and records, Computer technology.

For the reasons stated in the preamble, the National Archives and Records Administration proposes to amend 36 CFR Part 1234 to read as follows:

PART 1234—ELECTRONIC RECORDS MANAGEMENT

Subpart C—Standards for the Creation, Use, Preservation, and Disposition of Electronic Records

1. The authority citation for part 1234 continues to read as follows:

Authority: 44 USC 2104a; 44 USC 2904c.

§ 1234.30 [Amended]

2. In § 1234.30, remove paragraph (g)(3) and redesignate paragraphs (g)(4) through (g)(7) as paragraphs (g)(3) through (g)(6) respectively.

Dated: January 27, 2000.
John W. Carlin,
Archivist of the United States.

[FR Doc. 00-2385 Filed 2-2-00; 8:45 am]

BILLING CODE 7515-01-P